DEPARTMENT OF JUSTICE

Drug Enforcement Administration

[Docket No. DEA-645]

Bulk Manufacturer of Controlled Substances Application: Noramco, Inc.

ACTION: Notice of application.

DATES: Registered bulk manufacturers of the affected basic class(es), and applicants therefore, may file written comments on or objections to the issuance of the proposed registration on or before July 21, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on February 26, 2020, Noramco, Inc., 500 Swedes Landing Road, Wilmington, Delaware 19801-4417, applied to be registered as a bulk manufacturer of the following basic class(es) of controlled substances:

Controlled substance | Drug code | Schedule
Marihuana | 7360 | I
Tetrahydrocannabinols | 7370 | I
Codeine-N-oxide | 9053 | I
Dihydromorphine | 9145 | I
Hydromorphinol | 9301 | I
Morphine-N-oxide | 9307 | I
Amphetamine | 1100 | II
Lisdexamfetamine | 1205 | II
Methylphenidate | 1724 | II
Nabilone | 7379 | II
Phenylacetone | 8501 | II
Codeine | 9050 | II
Dihydrocodeine | 9120 | II
Oxycodone | 9143 | II
Hydromorphone | 9150 | II
Hydrocodone | 9193 | II
Morphine | 9300 | II
Oripavine | 9330 | II
Thebaine | 9333 | II
Opium extracts | 9610 | II
Opium fluid extract | 9620 | II
Opium tincture | 9630 | II
Opium, powdered | 9639 | II
Opium, granulated | 9640 | II
Oxymorphone | 9652 | II
Noroxymorphone | 9668 | II
Tapentadol | 9780 | II

The company plans to manufacture the listed controlled substances as an Active Pharmaceutical Ingredient (API) for supply to its customers. In reference to drug codes 7360 (Marihuana) and 7370 (Tetrahydrocannabinols), the company plans to bulk manufacture these drugs as synthetics. No other activities for these drug codes are authorized for this registration. This notice does not constitute an evaluation or determination of the merits of the company's application.

William T. McDermott,
Assistant Administrator.

[FR Doc. 2020-11077 Filed 5-21-20; 8:45 am]

BILLING CODE 4410-09-P